DEPARTMENT OF THE INTERIOR

National Park Service

Environmental Assessment for Proposal to Replace the Existing Deteriorated North Arcade Structure and Damaged Portions of the Adjacent Arcade Structure With a New North Arcade Structure in Glen Echo Park, MD

AGENCY: National Park Service, Interior.

ACTION: Availability of the Environmental Assessment (EA) for the proposal to replace the existing deteriorated North Arcade structure, and damaged portions of the adjacent arcade structure with a new North Arcade structure in Glen Echo Park (GLEC). Both structures are listed as contributing elements of the Glen Echo Park Historic District, Maryland.

SUMMARY: Pursuant to Council on Environmental Quality regulations and National Park Service (NPS) policy, the NPS announces the availability of an EA for the proposed replacement of the existing deteriorated North Arcade structure and damaged portions of the adjacent arcade structure with a new North Arcade structure in GLEC, a unit of the George Washington Memorial Parkway (GWMP). The EA examines several alternatives aimed to correct the advanced deterioration and design deficiencies of the North Arcade structure. The building currently provides marginal space for park administrative offices, classrooms, a photography studio, and a police substation. The use of these spaces is severely impacted by this advanced deterioration.

The NPS is soliciting comments on this EA. These comments will be considered in evaluating it and making decisions pursuant to the National Environmental Policy Act.

DATES: The EA will remain available for public comment until August 1, 2001. Written comments should be received no later than this date.

ADDRESSES: Comments on this EA should be submitted in writing to: Ms. Audrey F. Calhoun, Superintendent, George Washington Memorial Parkway, Turkey Run Park, McLean, Virginia, 22101. The EA will be available for public inspection Monday through Friday, 8:00 a.m. through 4:00 p.m. at GWMP Headquarters, Turkey Run Park, McLean, Virginia; on the NPS Website, www.nps.gov/gwmp; at GLEC and at the following Montgomery County libraries: Bethesda Regional Library, Davis Library, and Little Falls.

SUPPLEMENTARY INFORMATION: The NPS proposes to replace the existing deteriorated North Arcade structure and damaged portions of the adjacent arcade structure with a new North Arcade structure in GLEC. The intent of the proposed action is to: provide an interpretive area and classroom space to conduct and possibly expand programs; provide alternative space for the Puppet Company or a similar theatre group so that the main entrance of the Spanish Ballroom can be restored and used again; maintain and upgrade the space currently occupied by Photoworks, a portion of the lower level within the North Arcade; provide useful, efficient office space in place of what currently occupies a portion of the upper level within the North Arcade; address and correct structural deficiencies of the current structure (note that 40% of the current structure is vacant because of deterioration) and make the building accessible; address and correct Life and Safety Code deficiencies, including exit and egress requirements; address and correct Americans with Disabilities Act accessibility deficiencies; replace deteriorating mechanical and electrical systems that have exceeded their expected life cycle; enhance protection of natural and cultural resources within the park, especially those of the Glen Echo Historic District; attract more programs and users to the park to possibly create self-sufficiency; and respond to public requests for better facilities, maintenance and upkeep.

The proposed action is based on the fact that the building and canopy of the North Arcade have not fared well over time. This action aims to address structural deterioration of the outdoor concrete deck which has advanced to a state that does not allow use of the lower level rooftop plaza or the spaces below. It will also address other deficiencies, such as multiple floor level changes and varied construction practices that make the building generally unsafe to use and difficult to rehabilitate. In addition, the mechanical and electrical systems, which have been compromised through alteration and have far exceeded their expected life cycles will be replaced.

All interested individuals, agencies, and organizations are urged to provide comments on this EA. The NPS, in making a final decision regarding this matter, will consider all comments received by the closing date.

FOR FURTHER INFORMATION CONTACT: Mr. Dan Sealy (703) 289-2530 or via email at GWMP_IRRM_SECRETARY@NPS.GOV.

Dottie P. Marshall,
Acting Superintendent, George Washington Memorial Parkway.

[FR Doc. 01-16498 Filed 6-29-01; 8:45 am]

BILLING CODE 4310-70-P